ENVIRONMENTAL PROTECTION AGENCY

[FRL-6953-4]

Notice of Proposed Administrative Cost Recovery Settlement Pursuant to the Comprehensive Environmental Response, Compensation, and Liability Act; Metro-Plating Site

AGENCY: Environmental Protection Agency (EPA).

ACTION: Notice; request for public comment.

SUMMARY: In accordance with section 122(i) of the Comprehensive Environmental Response, Compensation, and Liability Act, as amended (“CERCLA”), notice is hereby given of a proposed administrative cost recovery settlement under section 122(h)(1) of CERCLA concerning the Metro-Plating Superfund site in Detroit, Wayne County, Michigan. The settlement resolves an EPA claim under section 107(a) of CERCLA against Jerome W. Crawford. The settlement requires the settling party to pay $2,000 to the Hazardous Substances Superfund and includes a covenant not to sue the settling party pursuant to section 107(a) of CERCLA, 42 U.S.C. 9607(a). However, the agreement does not protect the settling party from the following: (1) The settling party's failure to abide by the terms of the agreement; (2) costs incurred or to be incurred by the settling party that do not meet the definition of past response costs; (3) the settling party's liability for injunctive relief or administrative order enforcement under section 106 of CERCLA, 42 U.S.C. 9606; (4) criminal liability; and (5) natural resource damages.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the United States Environmental Protection Agency, Region 5 Records Center, 7th Floor, 77 W. Jackson Blvd, Chicago, Illinois 60604.

DATES: Comments must be submitted on or before April 18, 2001.

ADDRESSES: The proposed settlement and additional background information relating to the settlement are available for public inspection at the United States Environmental Protection Agency, Region 5 Records Center, 7th Floor, 77 West Jackson Blvd, Chicago, Illinois 60604. A copy of the proposed settlement may be obtained from William Ryczek, United States Environmental Protection Agency, Region 5, Mail Code SE-5J, 77 West Jackson Boulevard, Chicago, Illinois 60604, (312) 886-7184. Comments should reference the Metro-Plating Superfund site, Detroit, Wayne County, Michigan and EPA Docket No. ZW00C615 and should be addressed to William Ryczek at the address shown above.

FOR FURTHER INFORMATION CONTACT: William Ryczek, U.S. EPA Region 5, Mail Code SE-5J, 77 West Jackson Boulevard, Chicago, Illinois 60604, (312) 886-7184.

Dated: February 27, 2001.
William E. Muno,
Director, Superfund Division, Region 5.

[FR Doc. 01-6710 Filed 3-16-01; 8:45 am]

BILLING CODE 6560-50-P